DEPARTMENT OF JUSTICE

Antitrust Division

Notice Pursuant to The National Cooperative Research and Production Act of 1993—American Veterinary Medical Association

Notice is hereby given that, on September 20, 2004, pursuant to section 6(a) of the National Cooperative Research and Production Act of 1993, 15 U.S.C. 4301 et seq. (“the Act”), American Veterinary Medical Association (“AVMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Veterinary Medical Association, Schaumburg, IL. The nature and scope of AVMA's standards development activities are: to develop, plan, establish, and coordinate voluntary consensus standards applicable to the advancement of the science and art of veterinary medicine, including its relationship to public health, biological science, and agriculture. AVMA conducts its standards development activities through the following committees: AVMA Council on Education; AVMA Educational Commission for Foreign Veterinary Graduates; AVMA Committee on Veterinary Technician Education and Activities; and AVMA American Board of Veterinary Specialties. These committees conduct standard setting activities relating to the certification of foreign veterinarians in the United States, the accreditation of foreign veterinarians in the United States, the accreditation of veterinary medical and technology programs, and the establishment of criteria for recognition of veterinary specialty organizations. Through its standard development activities, AVMA seeks to advance the science and art of veterinary medicine, including its relationship to public health, biological science, and agriculture.

Dorothy B. Fountain,
Deputy Director of Operations, Antitrust Division.

[FR Doc. 04-23521 Filed 10-20-04; 8:45 am]

BILLING CODE 4410-11-M